DEPARTMENT OF TRANSPORTATION

Surface Transportation Board

[STB Docket No. AB-993X]

Motive Rail, Inc. d/b/a Missouri North Central Railroad—Discontinuance Exemption—in Livingston, Linn, and Chariton Counties, MO

Motive Rail, Inc. d/b/a Missouri North Central Railroad (Motive Rail) has filed a notice of exemption under 49 CFR Part 1152 Subpart F—Exempt Abandonments and Discontinuances of Services to discontinue service over an approximately 29.55-mile line of railroad between milepost 218.25, near Norville, and milepost 188.7 near Kelly, in Livingston, Linn, and Chariton Counties, MO.¹ The line traverses United States Postal Service Zip Codes 64601, 64681, 65236, 65286, 64643, and 64659.

¹ Chillicothe-Brunswick Rail Maintenance Authority (CBRA) also has operating authority for a portion of this line. CBRA has filed a notice of exemption to discontinue service in Chillicothe-Brunswick Rail Maintenance Authority—Discontinuance of Exemption—In Livingston, Linn and Chariton Counties, MO, STB Docket No. AB-1001X.

Motive Rail has certified that: (1) No traffic has moved over the line for at least 2 years; (2) there is no overhead traffic on the line to be rerouted; (3) no formal complaint filed by a user of rail service on the line (or by a state or local government entity acting on behalf of such user) regarding cessation of service over the line either is pending with the Board or with any U.S. District Court or has been decided in favor of complainant within the 2-year period; and (4) the requirements at 49 CFR 1105.12 (newspaper publication) and 49 CFR 1152.50(d)(1) (notice to governmental agencies) have been met.

As a condition to this exemption, any employee adversely affected by the discontinuance of service shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on March 27, 2007, unless stayed pending reconsideration. Petitions to stay that do not involve environmental issues and formal expressions of intent to file an OFA under 49 CFR 1152.27(c)(2) ² must be filed by March 5, 2007.³ Petitions to reopen must be filed by March 15, 2007, with the Surface Transportation Board, 1925 K Street, NW., Washington, DC 20423-0001. Filings made after March 5, 2007, should be sent to the Board's new address: Surface Transportation Board, 395 E Street, SW., Washington, DC 20423-0001.

² Each OFA must be accompanied by the filing fee, which currently is set at $1,300. See 49 CFR 1002.2(f)(25).

³ Because this is a discontinuance proceeding and not an abandonment, trail use/rail banking and public use conditions are not appropriate. Likewise, no environmental or historical documentation is required here under 49 CFR 1105.6(c) and 1105.8(b), respectively.

A copy of any petition filed with the Board should be sent to Motive Rail's representative: Charles H. Montange, 426 NW 162d Street, Seattle, WA 98177.

If the verified notice contains false or misleading information, the exemption is void ab initio.

Board decisions and notices are available on our Web site at http://www.stb.dot.gov.

Decided: February 16, 2007.
By the Board, David M. Konschnik, Director, Office of Proceedings.
Vernon A. Williams,
Secretary.

[FR Doc. E7-3146 Filed 2-22-07; 8:45 am]

BILLING CODE 4915-01-P